DEPARTMENT OF HEALTH AND HUMAN SERVICES

Centers for Disease Control and Prevention

[0920-11-10BG]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806.

Proposed Project

National Voluntary Environmental Assessment Information System (NVEAIS)—New—National Center for Environmental Health (NCEH), Centers for Disease Control and Prevention (CDC).

Background and Brief Description

The CDC is requesting OMB approval for a National Voluntary Environmental Assessment Information System to collect data from foodborne illness outbreak environmental assessments routinely conducted by local, state, territorial, or tribal food safety programs during outbreak investigations. Environmental assessment data are not currently collected at the national level. The data reported through this information system will provide timely data on the causes of outbreaks, including environmental factors associated with outbreaks, and are essential to environmental public health regulators' efforts to respond more effectively to outbreaks and prevent future, similar outbreaks.

The information system was developed by the Environmental Health Specialists Network (EHS-Net), a collaborative project of federal and state public health agencies. The EHS-Net has developed a standardized instrument for reporting data relevant to foodborne illness outbreak environmental assessments.

State, local, tribal, and territorial food safety programs are the respondents for this data collection. Although it is not possible to determine how many programs will choose to participate, as NVEAIS is voluntary, the maximum potential number of program respondents is approximately 3,000.

However, these programs will be reporting data on outbreaks, not their programs or personnel. It is not possible to determine exactly how many outbreaks will occur in the future, nor where they will occur. However, we can estimate, based on existing data that a maximum of 1,400 foodborne illness outbreaks will occur annually. Only programs in the jurisdictions in which these outbreaks occur would report to NVEAIS. Consequently, we have based our respondent burden estimate on the number of outbreaks likely to occur each year. Assuming each outbreak occurs in a different jurisdiction, there will be one respondent per outbreak. Each respondent will respond only once per outbreak investigated.

There are two activities for which we need to estimate burden for these programs. The first is entering all requested environmental assessment data into NVEAIS. This will be done once for each outbreak. This will take approximately 120 minutes per outbreak.

The second activity requiring a burden estimate is the manager interview that will be conducted at each establishment associated with an outbreak. Most outbreaks are associated with only one establishment; however, some are associated with multiple establishments. We estimate that a maximum average of 4 manager interviews will be conducted per outbreak. Each interview will take about 20 minutes.

The total estimated annual burden is 4,667 hours (see Table). There is no cost to the respondents other than their time.

Estimated Annual Burden Hours
Respondents | Data collection activity/form name | Number of respondents | Number of responses per respondent | Average burden per response (in hours)
Food safety program personnel | Reporting environmental assessment data into electronic system | 1,400 | 1 | 2
Food safety program personnel | Manager interview | 1,400 | 4 | 20/60

Dated: November 23, 2010.
Catina Conner,
Acting Reports Clearance Officer, Centers for Disease Control and Prevention.

[FR Doc. 2010-30129 Filed 11-29-10; 8:45 am]

BILLING CODE 4163-18-P